DEPARTMENT OF HEALTH AND HUMAN SERVICES

National Institutes of Health

Proposed Collection; Comment Request; A Process Evaluation of the NIH Director's New Innovator Award (NIA) Program

SUMMARY: In compliance with the requirement of Section 3506(c)(2)(A) of the Paperwork Reduction Act of 1995, for opportunity for public comment on proposed data collection projects, the Office of the Director, the National Institutes of Health (NIH), will publish periodic summaries of proposed projects to be submitted to the Office of Management and Budget (OMB) for review and approval.

Proposed Collection: Title: A Process Evaluation of the NIH Director's New Innovator Award (NIA) Program. Type of Information Collection Request: New collection. Need and Use of Information Collection: This study will assess the NIA Program operations and the outputs of the identification, evaluation and selection process. The primary objectives of the study are to: (1) Assess the NIA award selection process; (2) determine if the program was implemented as planned; and (3) determine if the process was conducted in accordance with the overall mission of the NIA program. The findings will provide valuable information concerning: (1) The characteristics of applicants and reviewers; (2) the criteria used to evaluate and select awardees; and (3) aspects of the process that could be revised or improved.

Frequency of Response: Once. Affected Public: none. Type of Respondents: Applicants, Reviewers. There are no Capital Costs to report. There are no Operating or Maintenance Costs to report. Estimated Number of Respondents: 662; Estimated Number of Responses per Respondent: 1: Average Burden Hours Per Response: .28 (15 minutes for applicants and 30 minutes for Extramural Reviewers), and Estimated Total Annual Burden Hours Requested: 188.5 and the annualized cost to respondents is estimated at $12,199.72. Table l and Table 2 respectively present data concerning the burden hours and cost burdens for this data collection.

Table 1—Annualized Estimate of Hour Burden
Type of respondents | Number of respondents | Frequency of response | Average time for response (hr) | Total hour burden*
Applicants | 570 | 1 | .25 | 142.5
Extramural Reviewers | 92 | 1 | .50 | 46
Total | 662 | 1 | .28 | 188.5
Total Burden = N Respondents*Response Frequency*(minutes to complete/60).

Table 2—Annualized Cost to Respondents
Type of respondents | Number of respondents | Response frequency | Approx. hourly wage rate | Total respondent cost**
Applicants | 570 | 1 | $64.72 | $9,226.60
Extramural Reviewers | 92 | 1 | 64.72 | 2977.12
Total | 662 | 1 | 64.72 | 12,199.72
**Total Respondent Cost = Total Hour Burden * Hourly Wage Rate.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact G. Stephane Philogene, Ph.D., Assistant Director for Policy and Planning, Office of Behavioral and Social Sciences Research, National Institutes of Health, 31 Center Drive. Building 31, Room B2-B37, Bethesda, MD 20892, or call non-toll-free number (301) 402-3902 or e-mail your request, including your address to: philoges@od.nih.gov.

Comments Due Date: Comments regarding this information collection are best assured of having their full effect if received within 60 days of the date of this publication.

Dated: February 10, 2009.
G. Stephane Philogene,
Assistant Director for Policy and Planning, Office of Behavioral and Social Sciences Research, National Institutes of Health.

[FR Doc. E9-3584 Filed 2-19-09; 8:45 am]

BILLING CODE 4140-10-P